FEDERAL COMMUNICATIONS COMMISSION

47 CFR Part 73

[DA 05-1734; MB Docket No. 04-328; RM-11046, RM-11235]

Radio Broadcasting Services; Americus and Oglethorpe, GA

AGENCY: Federal Communications Commission.

ACTION: Final rule.

SUMMARY: In response to a Notice of Proposed Rule Making, 69 FR 54614 (September 9, 2004), this Report and Order grants the proposal to allot Channel 295A to Americus, Georgia, and grants a request to dismiss a counterproposal to allot Channel 295 To Oglethorpe, Georgia. The coordinates for Channel 295A at Americus, Georgia are 32-04-51 North Latitude and 84-15-20 West Longitude, with a site restriction of 2.4 kilometers (1.5 miles) northwest of Americus, Georgia.

DATES: Effective August 8, 2005.

FOR FURTHER INFORMATION CONTACT: R. Barthen Gorman, Media Bureau, (202) 418-2180.

SUPPLEMENTARY INFORMATION: This is a synopsis of the Commission's Report and Order, MB Docket No. 04-328, adopted June 22, 2005, and released June 24, 2005. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202-863-2893, facsimile 202-863-2898, or via e-mail qualexint@aol.com. The Commission will send a copy of this Report and Order in a report to be sent to Congress and the Government Accountability Office pursuant to the Congressional Review Act, see 5 U.S.C. Section 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Georgia, is amended by adding Channel 295A at Americus.

Federal Communications Commission.
John A. Karousos,
Assistant Chief, Audio Division Media Bureau.

[FR Doc. 05-14055 Filed 7-19-05; 8:45 am]

BILLING CODE 6712-01-P